DEPARTMENT OF THE INTERIOR

Fish and Wildlife Service

Minor Adjustment of Kodiak National Wildlife Refuge Boundary

AGENCY: Fish and Wildlife Service, Interior.

ACTION: Notice of boundary adjustment.

SUMMARY: The Secretary of the Interior, acting through the Regional Director, Region 7, of the Fish and Wildlife Service, has made a minor modification to the boundary of the Kodiak National Wildlife Refuse in the State of Alaska. This boundary adjustment was made to incorporate within the Refuge a parcel of land, purchased by the United States, which is adjacent to the former Refuge boundary. This action added 2,793 acres to the Refuge.

DATES: Title to the land in question vested in the United States of America on November 23, 1998. Notification to Congress of the proposed boundary change was provided August 22, 2000.

ADDRESSES: Division of Realty, Fish and Wildlife Service, 1011 East Tudor Road, Anchorage, Alaska 99503-6199.

FOR FURTHER INFORMATION CONTACT: Sharon N. Janis, 907-786-3490.

SUPPLEMENTARY INFORMATION: In 1998, approximately 3,159.29 acres of land were acquired from Afognak Joint Venture by the United States, for administration by the Fish and Wildlife Service. Of the 3,159.29 acres, approximately 2,793 acres lie outside, but adjacent to, the boundaries of the Kodiak National Wildlife Refuge as established by the Alaska National Interest Lands Conservation Act. These lands are located in Section 36, Township 19 South, Range 21 West; Sections 7, 18, 19, and 30, Township 20 South, Range 20 West; and Sections 1, 2, 11, 13, 14, 24, and 25, Township 20 South, Range 21 West, Seward Meridian, Alaska.

Section 103(b) of the Alaska National Interest Lands Conservation Act (16 U.S.C. 3103(b)) establishes authority for the Secretary of the Interior to make minor boundary adjustments to the Wildlife Refuges created by the Act. Under this authority, and following due notice to Congress, the Secretary, acting through the Regional Director, Region 7, of the Fish and Wildlife Service, has used this authority to adjust the boundaries of the Kodiak Refuge to include the 2,793 acres of land referenced above. This adjustment modifies the boundary previously described in the Federal Register (48 FR 7966, Feb. 24, 1983).

David. B. Allen,
Regional Director.

[FR Doc. 01-20096 Filed 8-9-01; 8:45 am]

BILLING CODE 4310-55-M